ENVIRONMENTAL PROTECTION AGENCY

[FRL OP-OFA-101]

Environmental Impact Statements; Notice of Availability

Responsible Agency: Office of Federal Activities, General Information 202-564-5632 or https://www.epa.gov/nepa.

Weekly receipt of Environmental Impact Statements (EIS)

Filed December 4, 2023 10 a.m. EST Through December 11, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230175, Draft, Caltrans, CA, Last Chance Grade Permanent Restoration Project, Comment Period Ends: 02/13/2024, Contact: Steve Croteau 707-572-7149.

EIS No. 20230176, Draft, USACE, FL, Comprehensive Everglades Restoration Plan Western Everglades Restoration Project Draft Integrated Project Implementation Report and Environmental Impact Statement, Comment Period Ends: 01/29/2024, Contact: Melissa Nasuti 904-251-9597.

EIS No. 20230177, Draft, BLM, AK, ANCSA 17(d)(1) Withdrawals, Comment Period Ends: 02/14/2024, Contact: Racheal Jones 907-290-0307.

EIS No. 20230178, Final, BOEM, NY, Sunrise Wind Project, Review Period Ends: 01/16/2024, Contact: Genevieve Brune 703-787-1553.

Dated: December 12, 2023.
Julie Smith,
Acting Director, NEPA Compliance Division, Office of Federal Activities.

[FR Doc. 2023-27642 Filed 12-14-23; 8:45 am]

BILLING CODE 6560-50-P